DEPARTMENT OF THE INTERIOR

Fish and Wildlife Service

[FWS-HQ-MB-2016-N225; 91100-3740-GRNT 7C]

Announcement of Public Meeting via Teleconference: North American Wetlands Conservation Council

AGENCY: Fish and Wildlife Service, Interior.

ACTION: Notice of meeting.

SUMMARY: The North American Wetlands Conservation Council will meet via teleconference to select North American Wetlands Conservation Act (NAWCA) U.S. Standard grant proposals for recommendation to the Migratory Bird Conservation Commission. This meeting is open to the public, and interested persons may present oral or written statements.

DATES:

Teleconference: The teleconference is scheduled for July 14, 2017, at 12:00 p.m. Eastern Daylight Saving Time.

Attendance: Because this is a teleconference, there is no meeting venue. Individuals wishing to participate in the teleconference should contact the Council Coordinator for the call-in information (see FOR FURTHER INFORMATION CONTACT) no later than July 7, 2017.

Presenting Information During the Teleconference: If you are interested in presenting information, contact the Council Coordinator no later than July 7, 2017.

Submitting Information: To submit written information or questions before the Council meeting for consideration during the meeting, contact the Council Coordinator no later than July 7, 2017.

FOR FURTHER INFORMATION CONTACT: Sarah Mott, Council Coordinator, by phone at 703-358-1784; by email at dbhc@fws.gov; or by U.S. mail at U.S. Fish and Wildlife Service, 5275 Leesburg Pike, MS: MB, Falls Church, VA 22041. Persons who use a telecommunications device for the deaf (TDD) may call the Federal Relay Service (FRS) at 1-800-877-8339 during normal business hours. Also, FRS is available 24 hours a day, 7 days a week, to leave a message or question. You will receive a reply during normal business hours.

SUPPLEMENTARY INFORMATION:

About the Council

In accordance with the North American Wetlands Conservation Act (Pub. L. 101-233, 103 Stat. 1968, December 13, 1989, as amended; NAWCA), the State-private-Federal North American Wetlands Conservation Council (Council) meets to consider wetland acquisition, restoration, enhancement, and management projects for recommendation to, and final funding approval by, the Migratory Bird Conservation Commission. NAWCA provides matching grants to organizations and individuals who have developed partnerships to carry out wetlands conservation projects in the United States, Canada, and Mexico. These projects must involve long-term protection, restoration, and/or enhancement of wetlands and associated uplands habitats for the benefit of all wetlands-associated migratory birds. Project proposal due dates, application instructions, and eligibility requirements are available on the NAWCA Web site at www.fws.gov/birds/grants/north-american-wetland-conservation-act.php.

Public Input

Submitting Written Information or Questions

Interested members of the public may submit relevant information or questions to be considered during the public meeting. If you wish to make information available to the Council for their consideration prior to the meeting, you must contact the Council Coordinator by the date in DATES. Written statements must be supplied to the Council Coordinator in both of the following formats: One hard copy with original signature and one electronic copy via email (acceptable file formats are Adobe Acrobat PDF, MS Word, MS PowerPoint, or rich text file).

Giving an Oral Presentation

Individuals or groups requesting to make an oral presentation at the meeting will be limited to 2 minutes per speaker, with no more than a total of 30 minutes for all speakers. Interested parties should contact the Council Coordinator, by the date specified above in DATES, in writing (preferably via email; see FOR FURTHER INFORMATION CONTACT) to be placed on the public speaker list for the meeting. Nonregistered public speakers will not be considered during the Council meeting. Registered speakers who wish to expand upon their oral statements, or those who had wished to speak but could not be accommodated on the agenda, are invited to submit written statements to the Council within 30 days following the meeting.

Meeting Minutes

Summary minutes of the Council meeting will be maintained by the Council Coordinator at the address under FOR FURTHER INFORMATION CONTACT. Meeting notes will be available by contacting the Council Coordinator within 30 days following the meeting. Personal copies may be purchased for the cost of duplication.

Authority: We issue this notice under the authority of NAWCA (Pub. L. 101-233, 103 Stat. 1968, December 13, 1989, as amended).

Dated: June 19, 2017.
Jerome Ford,
Assistant Director, Migratory Birds.

[FR Doc. 2017-13497 Filed 6-27-17; 8:45 am]

BILLING CODE 4333-15-P